NUCLEAR REGULATORY COMMISSION

[Docket No. 55-22136-SP; ASLBP No. 01-788-01-SP]

Michael L. Piasecki; Designation of Presiding Officer

Pursuant to delegation by the Commission, see 37 Reg. 28,710 (Dec. 29, 1972), and the Commission's regulations, see 10 CFR 2.1201, 2.1207, notice is hereby given that a single member of the Atomic Safety and Licensing Board Panel is designated as Presiding Officer to conduct further proceedings in accordance with 10 CFR 2.1209 in the following case:

Michael L. Piasecki

(Denial of Reactor Operator's License)

The hearing will be conducted pursuant to 10 CFR Part 2, Subpart L, of the Commission's Regulations, “Informal Hearing Procedures for Adjudications In Materials and Operator Licensing Proceedings.” This proceeding concerns Mr. Piasecki's January 11, 2001 request for a hearing to challenge the NRC staff's denial of his reactor operator's license application as reflected in the staff's December 27, 2000 letter to Mr. Piasecki.

The Presiding Officer in this proceeding is Administrative Judge Ivan W. Smith. Pursuant to the provisions of 10 CFR 2.722, 2.1209, Administrative Judge Charles N. Kelber has been appointed to assist the Presiding Officer in taking evidence and in preparing a suitable record for review.

All correspondence, documents, and other materials shall be filed with Judge Smith and Judge Kelber in accordance with 10 CFR 2.1203. Their addresses are:

Administrative Judge Ivan W. Smith, Presiding Officer, Atomic Safety and Licensing Board Panel, U.S. Nuclear Regulatory Commission, Washington, D.C. 20555-0001

Dr. Charles N. Kelber, Special Assistant, Atomic Safety and Licensing Board Panel, U.S. Nuclear Regulatory Commission, Washington, D.C. 20555-0001

Issued at Rockville, Maryland, this 5th day of February 2001.
G. Paul Bollwerk III,
Chief Administrative Judge, Atomic Safety and Licensing Board Panel.

[FR Doc. 01-3367 Filed 2-8-01; 8:45 am]

BILLING CODE 7590-01-P